DEPARTMENT OF HEALTH AND HUMAN SERVICES

National Institutes of Health

Center for Scientific Review; Amended Notice of Meeting

Notice is hereby given of a change in the meeting of the Center for Scientific Review Special Emphasis Panel, April 01, 2020, 12:00 p.m. to April 01, 2020, 05:00 p.m., National Institutes of Health, 6701 Rockledge Drive, Bethesda, MD 20892 which was published in the Federal Register on March 09, 2020, 85 FR 13665.

The format of the Special Emphasis Panel: Member Conflict: Topics in Endocrinology and Metabolism has been changed to a Telephone Conference Meeting. Meeting date, time and location remain the same. The meeting is closed to the public.

Dated: March 18, 2020.
Ronald J. Livingston, Jr.,
Program Analyst, Office of Federal Advisory Committee Policy.

[FR Doc. 2020-06130 Filed 3-23-20; 8:45 am]

BILLING CODE 4140-01-P